DEPARTMENT OF HOMELAND SECURITY

U.S. Citizenship and Immigration Services

Agency Information Collection Activities: Extension of a Currently Approved Information Collection; Comment Request

ACTION: 60-Day Notice of Information Collection Under Review; Request for Verification of Naturalization; N-25.

The Department of Homeland Security, U.S. Citizenship and Immigration Services has submitted the following information collection request for review and clearance in accordance with the Paperwork Reduction Act of 1995. The information collection is published to obtain comments from the public and affected agencies. Comments are encouraged and will be accepted for sixty days until [Insert date of the 60th day from the date that this notice is published in the Federal Register].

Written comments and suggestions from the public and affected agencies concerning the collection of information should address one or more of the following four points:

(1) Evaluate whether the collection of information is necessary for the proper performance of the functions of the agency, including whether the information will have practical utility;

(2) Evaluate the accuracy of the agencies estimate of the burden of the collection of information, including the validity of the methodology and assumptions used;

(3) Enhance the quality, utility, and clarity of the information to be collected; and

(4) Minimize the burden of the collection of information on those who are to respond, including through the use of appropriate, electronic, mechanical, or other technological collection techniques or other forms of information technology, e.g., permitting electronic submission of responses.

Overview of this information collection:

(1) Type of Information Collection: Extension of a currently approved collection.

(2) Title of the Form/Collection: Request for Verification of Naturalization.

(3) Agency form number, if any, and the applicable component of the Department of Homeland Security sponsoring the collection: Form N-25. U.S. Citizenship and Immigration Services.

(4) Affected public who will be asked or required to respond, as well as a brief abstract: Primary: Individuals or households. This form is used to obtain information from the records of a clerk of court which may be needed by a person applying for benefits under various provisions of the I&N Act.

An estimate of the total number of respondents and the amount of time estimated for an average respondent to respond: 1,000 responses at 15 minutes (.25) per response.

An estimate of the total public burden (in hours) associated with the collection: 250 annual burden hours.

If you have additional comments, suggestions, or a need a copy of the information collection, please contact Richard A. Sloan, Director, Regulatory Management Division, U.S. Citizenship Services, 111 Massachusetts Avenue, NW., Washington, DC 20529.

Information about USCIS forms is available online at the USCIS Web site. The USCIS Web site address is: www.uscis.gov/graphic/formsfee. Please click on the link to the USCIS Forms, Fees and Fingerprints Information Center. The Forms and Fees link provides information on immigration forms and how to print them. We recommend that you obtain all of your forms by downloading (printing) them from this Web site. This will ensure that you will have the most up-to-date version of the form that is currently available.

Dated: September 23, 2005.
Richard A. Sloan,
Director, Regulatory Management Division, U.S. Citizenship and Immigration Services.

[FR Doc. 05-19349 Filed 9-27-05; 8:45 am]

BILLING CODE 4410-10-M